DEPARTMENT OF HOMELAND SECURITY

Coast Guard

33 CFR Part 165

[Docket No. USCG-2022-0272]

Safety Zones; Annual Events in the Captain of the Port Buffalo Zone—Cleveland National Air Show; Correction

AGENCY: Coast Guard, Department of Homeland Security (DHS).

ACTION: Notification of enforcement of regulation; correction.

SUMMARY: The Coast Guard is correcting a notification of enforcement of regulation that appeared in the Federal Register on April 20, 2022. That notification is entitled “Safety Zones; Annual Events in the Captain of the Port Buffalo Zone—Cleveland National Air Show.” This correction applies to the docket number.

DATES: This correction is effective April 26, 2022.

FOR FURTHER INFORMATION CONTACT: For information about this document call or email Spencer Phillips, Coast Guard; telephone 202-372-3854, email spencer.phillips@uscg.mil.

SUPPLEMENTARY INFORMATION: In FR Doc. 2022-08432, appearing on page 23444 in the Federal Register of Wednesday, April 20, 2022, the following correction is made:

1. On page 23444, in the third column, in the headings, “[Docket No. USCG-0270]” is corrected to read “[Docket No. USCG-2022-0272]”.

Dated: April 21, 2022.
James E. McLeod,
Deputy Chief, Office of Regulations and Administrative Law.

[FR Doc. 2022-08886 Filed 4-25-22; 8:45 am]

BILLING CODE 9110-04-P